DEPARTMENT OF LABOR

Agency Information Collection Activities; Submission for OMB Review; Comment Request; Complaint Involving Employment Discrimination by a Federal Contractor or Subcontractor

ACTION: Notice of availability; request for comments.

SUMMARY: The Department of Labor (DOL) is submitting this Office of Federal Contract Compliance Programs (OFCCP)-sponsored information collection request (ICR) to the Office of Management and Budget (OMB) for review and approval in accordance with the Paperwork Reduction Act of 1995 (PRA). Public comments on the ICR are invited.

DATES: The OMB will consider all written comments that the agency receives on or before February 2, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Michael Howell by telephone at 202-693-6782, or by email at DOL_PRA_PUBLIC@dol.gov.

SUPPLEMENTARY INFORMATION: On January 21, 2025, President Donald Trump issued Executive Order 14173, Ending Illegal Discrimination and Restoring Merit-Based Opportunity (E.O. 14173), which revoked E.O. 11246. Therefore, applicants and employees of Federal contractors and subcontractors, authorized representatives, or third parties may file complaints of employment discrimination with OFCCP pursuant to Section 503 of the Rehabilitation Act of 1973, as amended and the Vietnam Era Veterans' Readjustment Assistance Act of 1974, as amended, but may no longer file complaints with OFCCP pursuant to E.O. 11246. OFCCP is requesting approval to revise questions on its complaint and pre-complaint inquiry forms to align with E.O. 14173. Following the revocation of E.O. 11246, OFCCP sought emergency approval from the Office of Management and Budget (OMB) to remove the items related to E.O. 11246 from the forms. OMB approved OFCCP's request on July 2, 2025. On July 7, 2025, OFCCP also published a 60-day Federal Register notice seeking comments from the public on the updated forms and information collection request. OFCCP is now issuing the 30-day notice and supporting statement, which responds to the public comments. For additional substantive information about this ICR, see the related notice published in the Federal Register on July, 7 2025 (90 FR 29892).

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OFCCP.

Title of Collection: Complaint Involving Employment Discrimination by a Federal Contractor or Subcontractor.

OMB Control Number: 1250-0002.

Affected Public: Individual Households.

Total Estimated Number of Respondents: 1,718.

Total Estimated Number of Responses: 1,718.

Total Estimated Annual Time Burden: 505 hours.

Total Estimated Annual Other Costs Burden: $1,081.

(Authority: 44 U.S.C. 3507(a)(1)(D))

Michael Howell,
Senior Paperwork Reduction Act Analyst.

[FR Doc. 2025-24174 Filed 12-31-25; 8:45 am]

BILLING CODE 4510-CM-P